SMALL BUSINESS ADMINISTRATION

[Disaster Declaration #16932 and #16933; Kentucky Disaster Number KY-00084]

Presidential Declaration Amendment of a Major Disaster for the Commonwealth of Kentucky

AGENCY: U.S. Small Business Administration.

ACTION: Amendment 1.

SUMMARY: This is an amendment of the Presidential declaration of a major disaster for the Commonwealth of Kentucky (FEMA-4595-DR), dated 04/23/2021.

Incident: Severe Storms, Flooding, Landslides, and Mudslides.

Incident Period: 02/27/2021 through 03/14/2021.

DATES: Issued on 05/27/2021.

Physical Loan Application Deadline Date: 06/22/2021.

Economic Injury (EIDL) Loan Application Deadline Date: 01/24/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the Commonwealth of Kentucky, dated 04/23/2021, is hereby amended to include the following areas as adversely affected by the disaster:

Primary Counties (Physical Damage and Economic Injury Loans): Anderson, Boyd, Clark, Fayette, Franklin, Greenup, Jackson, Jessamine, Knott, Laurel, Lawrence, Leslie, Letcher, Lincoln, Madison, Morgan, Owsley, Perry, Pulaski, Rockcastle, Warren, Woodford.

Contiguous Counties (Economic Injury Loans Only):

Kentucky: Allen, Barren, Bourbon, Boyle, Butler, Carter, Casey, Edmonson, Elliott, Garrard, Harlan, Henry, Lewis, Logan, McCreary, Mercer, Nelson, Owen, Rowan, Russell, Scott, Shelby, Simpson, Spencer, Washington, Wayne, Whitley.

Ohio: Lawrence, Scioto.

Virginia: Wise.

All other information in the original declaration remains unchanged.

(Catalog of Federal Domestic Assistance Number 59008)

James Rivera,
Associate Administrator for Disaster Assistance.

[FR Doc. 2021-11742 Filed 6-3-21; 8:45 am]

BILLING CODE 8026-03-P